DEPARTMENT OF ENERGY

Federal Energy Regulatory Commission

[Docket No. CP01-433-000]

Transcontinental Gas Pipe Line Corporation; Notice of Application

August 30, 2001.

On August 27, 2001, Transcontinental Gas Pipe Line Corporation (Transco), P.O. Box 1396, Houston, Texas 77251, filed an application in Docket No. CP01-433-000 pursuant to Sections 7(b) and 7(c) of the Natural Gas Act (NGA) for (1) a certificate of public convenience and necessity authorizing Transco's installation and operation of two electric motor driven centrifugal compressors at Transco's existing Compressor Station No. 35 in Harris County, Texas to comply with the Clean Air Act Amendments of 1990, and (2) an order permitting and approving abandonment by removal of the four existing natural gas-fired compressors at Station No. 35. To comply with requirements set by the Texas Natural Resource Conservation Commission (TNRCC) for the Metropolitan Houston-Galveston Intrastate Air Quality Control Region, Transco needs to start work at the station in January 2002, all as more fully set forth in the application which is on file with the Commission and open to public inspection. This filing may be viewed on the web at http://www.ferc.gov using the “RIMS” link, select “Docket #” from the RIMS Menu and follow the instructions (please call (202) 208-2222 for assistance).

Transco states that the Clean Air Act Amendments of 1990 and state implementation plans pursuant thereto require certain reductions of NOX (oxides of nitrogen) air emissions at certain of Transco's compressor stations. Accordingly, during the past few years and over the next few years Transco has and plans to install or modify certain facilities at these stations to achieve the required reductions of NOX. In most cases, installations and modifications would be made on existing natural gas-fired compressors, and Transco would make these installations and modifications pursuant to its blanket facilities certificate (18 CFR 157.208) issued in Docket No. CP82-426 when it is authorized to do so (either under automatic or prior notice authorization, depending on the estimated dollar amount). However, at Station No. 35 the existing natural gas-fired compressors will be retired and replaced with units driven by electric motors, and thus Transco states it will need individual certificate and abandonment authority from the Commission.

Transco states that the facilities at Station No. 35 are located within a fenced area of approximately 23 acres. All proposed construction activities associated with the installation of the new facilities and removal of existing facilities will occur within the boundaries of the existing station property. Extensions to existing access roads will be located within the fenced area.

Transco states that it proposes to eliminate NOX emissions from the existing natural gas-fired compressor engines located at Station No. 35. These NOX emission reductions are required to comply with the TNRCC requirements set for the Metropolitan Houston-Galveston Intrastate Air Quality Control Region. This NOX emissions elimination will be achieved by replacing the four existing compressors driven by Nordberg 3800 HP natural gas-fired engines with two new centrifugal compressors, each driven by a 7455 HP General Electric synchronous electric motor. The horsepower of the new units will be sufficient to meet Transco's contract obligations to its firm shippers.

Transco states that a new compressor building housing the new units will be approximately 75 feet x 110 feet. This compressor building will be constructed north of the existing pipeline. Yard piping will be modified to accommodate the new building. A new 35 foot by 72 foot auxiliary building will be constructed to house control and safety equipment and an emergency generator. A new 16 foot by 50 foot skid-mounted switchgear building will be constructed to house the electrical equipment for the electric driven centrifugal compressors.

Transco states a new substation will be constructed for the transformers and electrical equipment that will supply electric power to the electric driven centrifugal compressors. The substation area will be approximately 120 feet x 200 feet and will be located in the northwest corner of the property. The substation will be constructed and owned by Transco. The substation will receive electric power via a high voltage service drop from an existing transmission line of Houston Lighting and Power Company, located along the western edge of the station property.

Transco states that approximately four acres of the existing station site will be impacted by the installation activity.

Transco states that no ground or surface water impacts will occur as a result of this project. The existing fenced station facility property does not contain any wetlands or surface water bodies. Areas disturbed by the installation activity will be restored and maintained according to applicable provisions in the Commission's Upland Erosion Control, Revegetation, and Maintenance Plan (“Plan”).

Transco states that the station noise emissions after the installation of the new electric units will be equal to or lower than the current station noise emissions at the nearest noise-sensitive areas.

Transco states that the above-discussed installations will cost approximately $18.2 million.

Transco states that no air permits are required for the compressor conversion, although a new natural gas-fired auxiliary generator will be registered with the TNRCC, at which time it will be authorized under a Permit-By-Rule. The TNRCC Title V permit will be modified upon the completion of this NOX emission reduction project. Other than the above, Transco is not aware of any application to supplement or effectuate the proposal set forth herein which must be or is to be filed by Transco, any of Transco's customers, or any other persons with any other Federal, State or regulatory body.

Transco states that the construction and operation of the proposed facilities will have no significant impact on the quality of human health or the environment other than the positive impact of reducing NOX emissions. Transco certifies that the proposed facilities will be designed, constructed, operated and maintained in accordance with all applicable safety standards and plans for maintenance and inspection.

Transco states that because of installation of the new electric units, the existing natural gas-fired compressors and associated equipment will not be needed. Accordingly, the four units and all associated equipment required for operation of these units will be removed. The existing compressor building will be demolished and removed. This will require the disturbance of an additional one acre within the Station No. 35 site. This area will be restored pursuant to the Commission's Plan and maintained as a grassy area. The estimated cost of this removal work is approximately $2.5 million.

Transco submits that this project will serve the public convenience and necessity because it will eliminate NOX emissions at Station No. 35 and enable Transco to comply with the Clean Air Act Amendments of 1990 and the requirements set by the TNRCC for the Metropolitan Houston-Galveston Intrastate Air Quality Control Region.

Transco's contact person for this project is Tom Messick, P.O. Box 1396, Houston, Texas 77251, at (713) 215-2772.

There are two ways to become involved in the Commission's review of this abandonment. First, any person wishing to obtain legal status by becoming a party to the proceedings for this abandonment should, on or before September 20, 2001, file with David P. Boergers, Secretary, Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. Copies of this filing are on file with the Commission and are available for public inspection. Comments, protests and interventions may be filed electronically via the Internet in lieu of paper. See, 18 CFR 385.2001(a)(1)(iii) and the instructions on the Commission's web site under the “e-Filing” link.

However, a person does not have to intervene in order to have comments considered. The second way to participate is by filing with the Secretary of the Commission, as soon as possible, an original and two copies of comments in support of or in opposition to this abandonment. The Commission will consider these comments in determining the appropriate action to be taken, but the filing of a comment alone will not serve to make the filer a party to the proceeding. The Commission's rules require that persons filing comments in opposition to the abandonment provide copies of their protests only to the party or parties directly involved in the protest.

Persons who wish to comment only on the environmental review of this abandonment should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

If the Commission decides to set the application for a formal hearing before an Administrative Law Judge, the Commission will issue another notice describing that process. At the end of the Commission's review process, a final Commission order approving or denying a certificate will be issued.

David P. Boergers,
Secretary.

[FR Doc. 01-22336 Filed 9-5-01; 8:45 am]

BILLING CODE 6717-01-P